DEPARTMENT OF ENERGY

Federal Energy Regulatory Commission

Combined Notice of Filings #1

Take notice that the Commission received the following exempt wholesale generator filings:

Docket Numbers: EG19-125-000.

Applicants: Palmas Wind, LLC.

Description: Notice of Self-Certification of Exempt Wholesale Generator Status of Palmas Wind, LLC.

Filed Date: 6/11/19.

Accession Number: 20190611-5117.

Comments Due: 5 p.m. ET 7/2/19.

Take notice that the Commission received the following electric rate filings:

Docket Numbers: ER15-1456-007; ER10-2615-012; ER10-2934-013; ER10-2959-014; ER11-2235-002; ER11-3859-018; ER11-4634-007; ER13-450-005; ER14-1699-008; ER15-1457-007; ER16-999-007; ER17-1605-001; ER17-436-006; ER17-437-009; ER18-920-002

Applicants: Beaver Falls, L.L.C., Chambers Cogeneration, Limited Partnership, Dighton Power, LLC, Dominion Energy Fairless, LLC, Dominion Energy Manchester Street, Inc., Greenleaf Energy Unit 1 LLC, Hazleton Generation LLC, Logan Generating Company, L.P., Marco DM Holdings, L.L.C., Marcus Hook Energy, L.P., Marcus Hook 50, L.P., Milford Power, LLC, Plum Point Energy Associates, LLC, Plum Point Services Company, LLC, Syracuse, L.L.C.

Description: Supplement to January 15, 2019 Notice of Change in Status of the SEG MBR Entities.

Filed Date: 6/10/19.

Accession Number: 20190610-5131.

Comments Due: 5 p.m. ET 7/1/19.

Docket Numbers: ER19-838-001.

Applicants: Midcontinent Independent System Operator, Inc.

Description: Compliance filing: 2019-06-11_Compliance re ATC Revisions to Att O for ADIT in response to EL18-157 to be effective 6/27/2018.

Filed Date: 6/11/19.

Accession Number: 20190611-5128.

Comments Due: 5 p.m. ET 7/2/19.

Docket Numbers: ER19-1409-001.

Applicants: Birdsboro Power LLC.

Description: Compliance filing: Compliance Filing Under Docket Nos. ER19-1409 and EL19-73 to be effective 5/30/2019.

Filed Date: 6/11/19.

Accession Number: 20190611-5134.

Comments Due: 5 p.m. ET 7/2/19.

Docket Numbers: ER19-2097-000.

Applicants: PacifiCorp.

Description: § 205(d) Rate Filing: Dixie/DGT Trans IC Agmt—Purgatory Flat to be effective 6/12/2019.

Filed Date: 6/11/19.

Accession Number: 20190611-5123.

Comments Due: 5 p.m. ET 7/2/19.

Docket Numbers: ER19-2098-000.

Applicants: Southwest Power Pool, Inc.

Description: § 205(d) Rate Filing: 1628R15 Western Farmers Electric Cooperative NITSA NOA to be effective 6/1/2019.

Filed Date: 6/11/19.

Accession Number: 20190611-5125.

Comments Due: 5 p.m. ET 7/2/19.

Docket Numbers: ER19-2099-000.

Applicants: Midcontinent Independent System Operator, Inc.

Description: § 205(d) Rate Filing: 2019-06-11_Stage 1B of Auction Revenue Right Allocation Process Filing to be effective 8/11/2019.

Filed Date: 6/11/19.

Accession Number: 20190611-5126.

Comments Due: 5 p.m. ET 7/2/19.

Docket Numbers: ER19-2100-000.

Applicants: ALLETE, Inc., Midcontinent Independent System Operator, Inc.

Description: § 205(d) Rate Filing: 2019-06-11_SA 3312 MP-GRE T-L (Bull Moose) to be effective 6/11/2019.

Filed Date: 6/11/19.

Accession Number: 20190611-5129.

Comments Due: 5 p.m. ET 7/2/19.

Docket Numbers: ER19-2101-000.

Applicants: Alabama Power Company.

Description: § 205(d) Rate Filing: Tyre Bridge Solar LGIA Filing to be effective 5/29/2019.

Filed Date: 6/11/19.

Accession Number: 20190611-5131.

Comments Due: 5 p.m. ET 7/2/19.

Docket Numbers: ER19-2102-000.

Applicants: ITC Midwest LLC.

Description: § 205(d) Rate Filing: Filing of Master JUA with Anita Municipal Utilities to be effective 8/11/2019.

Filed Date: 6/11/19.

Accession Number: 20190611-5132.

Comments Due: 5 p.m. ET 7/2/19.

Docket Numbers: ER19-2103-000.

Applicants: GridLiance Heartland LLC.

Description: § 205(d) Rate Filing: GLH OATT TSA Filing to be effective 8/9/2019.

Filed Date: 6/11/19.

Accession Number: 20190611-5133.

Comments Due: 5 p.m. ET 7/2/19.

Docket Numbers: ER19-2104-000.

Applicants: New York Independent System Operator, Inc.

Description: § 205(d) Rate Filing: NYISO 205 External ICAP Suppliers Supplemental Resource Evaluation (SRE) Penalty to be effective 8/12/2019.

Filed Date: 6/11/19.

Accession Number: 20190611-5135.

Comments Due: 5 p.m. ET 7/2/19.

Docket Numbers: ER19-2105-000.

Applicants: Appalachian Power Company, PJM Interconnection, L.L.C.

Description: § 205(d) Rate Filing: PJM TOs submit revisions to OATT, Schedules 7 and 8 and Att. H-A re: Border Rate to be effective 8/10/2019.

Filed Date: 6/11/19.

Accession Number: 20190611-5137.

Comments Due: 5 p.m. ET 7/2/19.

Docket Numbers: ER19-2106-000.

Applicants: Duke Energy Progress, LLC.

Description: Petition for Waiver of Tariff Provisions of Duke Energy Progress, LLC.

Filed Date: 6/11/19.

Accession Number: 20190611-5138.

Comments Due: 5 p.m. ET 7/2/19.

Docket Numbers: ER19-2107-000.

Applicants: Black Rock Wind Force, LLC.

Description: Request for Limited Waiver, et al. of Black Rock Wind Force, LLC.

Filed Date: 6/11/19.

Accession Number: 20190611-5142.

Comments Due: 5 p.m. ET 6/21/19.

Docket Numbers: ER19-2108-000.

Applicants: NSTAR Electric Company.

Description: Notice of Termination of the Related Facilities Service Agreement (No. 80) of NSTAR Electric Company.

Filed Date: 6/11/19.

Accession Number: 20190611-5144.

Comments Due: 5 p.m. ET 7/2/19.

Docket Numbers: ER19-2109-000.

Applicants: PPL Electric Utilities Corporation, PJM Interconnection, L.L.C.

Description: § 205(d) Rate Filing: PPL submits an ECSA, Service Agreement No. 5419 with MAIT to be effective 8/12/2019.

Filed Date: 6/12/19.

Accession Number: 20190612-5039.

Comments Due: 5 p.m. ET 7/3/19.

Docket Numbers: ER19-2110-000.

Applicants: Midcontinent Independent System Operator, Inc.

Description: § 205(d) Rate Filing: 2019-06-12_SA 3317 NSPM-Nobles 2 Power Partners E&P (J512) to be effective 5/13/2019.

Filed Date: 6/12/19.

Accession Number: 20190612-5093.

Comments Due: 5 p.m. ET 7/3/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 12, 2019.
Kimberly D. Bose,
Secretary.

[FR Doc. 2019-12812 Filed 6-17-19; 8:45 am]

BILLING CODE 6717-01-P